NATIONAL ARCHIVES AND RECORDS ADMINISTRATION

Privacy Act of 1974; Systems of Records Notices

AGENCY: National Archives and Records Administration (NARA).

ACTION: Notice to add records systems (NARA 35 and NARA 36).

SUMMARY: The National Archives and Records Administration (NARA) proposes to add two system of records notices to its existing inventory of records systems subject to the Privacy Act of 1974 (5 U.S.C. 552a), as amended. In this notice, NARA publishes NARA 35, Case Management and Reporting System (CMRS), and NARA 36, Public Transportation Benefit Program Files for comment.

EFFECTIVE DATES: The establishment of new systems NARA 35 and 36 will be effective without further notice on December 16, 2002, unless comments received on or before that date cause a contrary decision. If changes are made based on NARA's review of comments received, a new final notice will be published.

ADDRESSES: Send comments to the Privacy Act Officer, Office of General Counsel (NGC), Room 3110, National Archives and Records Administration, 8601 Adelphi Road, College Park, MD, 20740-6001. You may fax your comments to 301-837-0293. You may also comment via the Internet to comments@nara.gov.

FOR FURTHER INFORMATION CONTACT: Ramona Branch Oliver, Privacy Act Officer, (301) 837-2024 (voice) or (301) 837-0293 (fax).

SUPPLEMENTARY INFORMATION: NARA last published a comprehensive set of Privacy Act notices in the Federal Register on April 2, 2002 (67 FR 15592). NARA is proposing to add NARA 35, Case Management and Reporting System, and NARA 36, Public Transportation Benefit Program Files, to its existing inventory of records systems subject to the Privacy Act of 1974 (5 U.S.C. 552a), as amended. NARA 35 covers persons who request information from or access to inactive military personnel, medical, and organizational records in the physical custody of the National Personnel Records Center (Military Personnel Records). NARA 36 covers the public transportation benefit program files, which contain information on NARA employees that is used to document the distribution of transportation subsidies. The notice for each of the two systems of records states the following:

• Name and the location of the record system;

• Authority for and manner of its operation;

• Categories of individuals it covers;

• Types of records that it contains;

• Sources of information in these records;

• Proposed “routine uses” of each system of records; and

• Business address of the NARA official who will inform interested persons of the procedures they must follow to gain access to and correct records pertaining to themselves. The Appendix B referenced in the proposed notices is found at 67 FR 15617.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

Dated: October 4, 2002.
John W. Carlin,
Archivist of the United States.

Accordingly, we are publishing the proposed new systems of records notices as follows:

NARA 35

System name:

Case Management and Reporting System (CMRS).

System location:

This automated system is located at the National Personnel Records Center (Military Personnel Records) in St. Louis, MO, and the National Archives and Records Administration in College Park, MD. The addresses for these locations are listed in Appendix B following the NARA Notices.

Categories of individuals covered by the system:

Individuals covered by this system include persons who request information from or access to inactive military personnel, medical, and organizational records in the physical custody of the National Personnel Records Center (Military Personnel Records). Also covered are the subjects of these inactive records.

Categories of records in the system:

CMRS files may include: Correspondence, including administrative forms used for routine inquiries and replies, between NARA staff and requesters; stored copies of frequently requested documents from individual Official Military Personnel Files (OMPF's); production and response time data used for internal reporting purposes; and databases used to respond to requests. These files may contain some or all of the following information about an individual: Name, address, telephone number, position title, name of employer/institutional affiliation, identification of requested records, social security number/service number, previous military assignments, and other information furnished by the requester.

Authority for maintenance of the system:

44 U.S.C. 2108, 2110, and 2907.

Routine uses of records maintained in the system, including categories of users and the purposes of such uses:

NARA maintains CMRS files to: Maintain control of records being requested for either internal or external use, establish employee and requester accountability for records, prepare replies to requester's reference questions, record the status of requesters' requests and NARA replies to those requests, and to facilitate the preparation of statistical and other aggregate reports on employee performance and requester satisfaction.

The routine use statements A, C, D, E, F, and G, described in Appendix A following the NARA notices, also apply to this system of records.

Policies and practices for storing, retrieving, accessing, retaining, and disposing of records in the system:

Storage:

Electronic records.

Retrievability:

Information in CMRS files may be retrieved by the name, social security or military service number of the veteran whose record was the subject of the request. By use of a querying capability, information may also be retrieved by use of a system-assigned request number, by name and date of birth of the veteran, and by requester-supplied information, such as name and address, phone number, or email address.

Safeguards:

During business hours, electronic records are accessible to authorized NARA personnel via passwords from terminals located in attended offices. After business hours, buildings have security guards and/or secured doors, and all entrances are monitored by electronic surveillance equipment.

Retention and disposal:

The disposition of the records in the CMRS system is under consideration. Accordingly, the records generated by the system cannot be destroyed until a records schedule is approved by the Archivist. Once the disposition is determined, retention and disposal of the records will be governed in accordance with the applicable disposition instructions in the NARA records schedule contained in FILES 203, the NARA Files Maintenance and Records Disposition Manual. Individuals may request a copy of the disposition instructions from the NARA Privacy Act Officer.

System manager(s) and address:

The system manager, CMRS, is the Director, National Personnel Records Center. The address for this location is listed in Appendix B following the NARA Notices.

Notification procedure:

Individuals interested in inquiring about their records should notify the NARA Privacy Act Officer at the address given in Appendix B.

Record access procedures:

Individuals who wish to gain access to their records should submit their request in writing to the NARA Privacy Act Officer at the address given in Appendix B.

Contesting record procedures:

NARA rules for contesting the contents and appealing initial determinations are found in 36 CFR part 1202.

Record source categories:

Information in the CMRS file is obtained from requesters and from NARA employees who maintain the file.

NARA 36

System name:

Public Transportation Benefit Program Files.

System location:

The transportation benefit program files are maintained in the following locations in the Washington, DC, area and other geographical regions. The addresses for these locations are listed in Appendix B following the NARA Notices:

(1) The Facilities and Materiel Management Services Division (NAF);

(2) Presidential libraries, projects, and staffs; and

(3) Regional records services facilities.

Categories of individuals covered by the system:

All NARA employees who have enrolled in the Public Transit Subsidy Program (PTSP) are covered by this system, including: full-time employees; part-time employees; intermittent employees; and temporary employees and students.

Categories of records in the system:

The public transportation benefit program files contain information on NARA employees that is used to document the distribution of transportation subsidies. These files contain information submitted on NA Form 6041, Application'Public Transit Subsidy Program, by both current and non-current participants and include: name; home address; social security number; NARA unit; and NARA work phone number. In addition, files may contain vouchers and other forms used to document the disbursement of subsidies.

Authority for maintenance of the system:

44 U.S.C. 2104 and Executive Order 13150.

Routine uses of records maintained in the system, including categories of users and the purposes of such uses:

NARA maintains transportation benefit program files on individuals in order to: provide the Department of Transportation with the names, social security numbers, and addresses of NARA employees who have enrolled in the Public Transit Subsidy Program or are members of qualified vanpools; and to verify employee compliance with the rules of the program. The routine use statements A and F, described in Appendix B following the NARA notices, also applies to this system.

Storage:

Paper forms (NA 6041, Application—Public Transit Subsidy Program; NA Form 6042—Authorization for Third Party Pickup—Public Transit Subsidy Program) and electronic records.

Retrievability:

Information in the public transportation benefit program files may be retrieved by the name of the individual.

Safeguards:

During business hours, paper records are maintained in areas accessible to authorized NARA personnel. Electronic records are accessible to authorized personnel via passwords from terminals located in attended offices. After business hours, buildings have security guards and/or secured doors, and all entrances are monitored by electronic surveillance equipment.

Retention and disposal:

Records in the public transportation benefit program files are temporary records and are destroyed in accordance with the disposition instructions in the NARA records schedule contained in FILES 203, NARA Files Maintenance and Records Disposition Manual. Individuals may request a copy of the disposition instructions from the NARA Privacy Act Officer.

System manager(s) and address:

The system manager for the transportation benefit program files in the Washington, DC, area is the PTSP Manager in NAF. Local PTSP managers are designated for the Presidential libraries and regional records services facilities. The address for this location is listed in Appendix B following the NARA Notices.

Notification procedure:

Individuals interested in inquiring about their records should notify the NARA Privacy Act Officer at the address listed in Appendix B following the NARA notices.

Record access procedures:

Individuals who wish to gain access to their records should submit their request in writing to the NARA Privacy Act Officer at the address listed in Appendix B.

Contesting record procedures:

NARA rules for contesting the contents and appealing initial determinations are found in 36 CFR part 1202.

Record source categories:

Information in the public transportation benefit program files is obtained from individuals who have furnished information to the NARA PTSP.

[FR Doc. 02-25973 Filed 10-16-02; 8:45 am]

BILLING CODE 7515-01-P